DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: September 10, 2014 (8:30 a.m.-5:30 p.m.) and September 11, 2014 (8:30 a.m.-4:00 p.m.).

Place: In-Person Meeting, Webinar, and Conference Call Format.

Status: The meeting will be open to the public.

Purpose: The members of the ACICBL will continue discussions to develop the legislatively mandated 14th Annual Report to the Secretary of Health and Human Services and Congress. The Committee members have chosen the working topic: Rethinking Complex Care: Preparing the Health Care Workforce to Foster Person-Centered Care.

Agenda: The ACICBL agenda includes an opportunity for members to consult with experts in the area of complex care and to further discuss and develop a plan for developing the 14th Annual Report. The agenda will be available 2 days prior to the meeting on the HRSA Web site at http://www.hrsa.gov/advisorycommittees/bhpradvisory/acicbl/acicbl.html. Agenda items are subject to change as priorities dictate.

The Committee has invited Anand K. Parekh, Deputy Assistant Secretary for Health, U.S. Department of Health & Human Services; Tara A. Cortes, Executive Director, The Hartford Institute for Geriatric Nursing and Professor, NYU College of Nursing; Kimberly Lochner, Centers For Medicare & Medicaid Services, Office of Information Products and Data Analysis; Mark Sciegaj, Associate Professor of Health Policy and Administration, College of Health and Human Development, Pennsylvania State University; and Michael J. Barry, President, Informed Medical Decisions Foundation, to provide expertise in the areas of person-centered care, chronic care management, chronic disease prevention, and best practices to inform the Committee's effort to formulate appropriate recommendations for the Secretary and the Congress.

Public Comment: Requests to make oral comments or provide written comments to the ACICBL should be sent to Dr. Joan Weiss, Designated Federal Official, using the address and phone number below. Individuals who plan to participate on the conference call or webinar should notify Dr. Weiss at least 3 days prior to the meeting. Members of the public will have the opportunity to provide comments. Interested parties should refer to the meeting subject as the HRSA Advisory Committee on Interdisciplinary, Community-Based Linkages.

SUPPLEMENTARY INFORMATION: As this meeting will be a combined format of both in-person, webinar and conference call, members of the public and interested parties who wish to participate “in-person” should make an immediate request by emailing their first name, last name, and contact email to the Designated Federal Official for the committee, Dr. Joan Weiss, using the address and phone number below. Space is limited. Due to the fact that this meeting will be held within a federal government building and public entrance to such facilities require prior planning, access will be granted upon request only and will be on a first come, first served basis. The conference call-in number is 1-877-918-1352 and the passcode is 4961069. The webinar link is https://hrsa.connectsolutions.com/advcmte/.

The logistical challenges of scheduling this meeting hindered an earlier publication of this meeting notice.

FOR FURTHER INFORMATION CONTACT: Anyone requesting information regarding the ACICBL should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Dated: August 29, 2014.
Jackie Painter,
Acting Director, Division of Policy and Information Coordination.

[FR Doc. 2014-21279 Filed 9-5-14; 8:45 am]

BILLING CODE 4165-15-P